FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011803-002.

Title: Maersk Sealand/Evergreen Slot Exchange Agreement.

Parties: A.P. Moller-Maersk A/S, Evergreen Marine Corporation, Ltd.

Synopsis: The amendment re-allocates the parties' space commitments.

Agreement No.: 011854-001.

Title: GreenSea Joint Service Agreement.

Parties: Green Chartering AS, Seatrade Group N.V.

Synopsis: The subject agreement modification would expand the geographic scope to include the westbound trade from ports in Continental Europe to ports on the East and Gulf Coasts of the United States.

Agreement No.: 011857.

Title: Crowley Liner Services and Frontier Liner Services, Inc. Slot Charter and Sailing Agreement.

Parties: Crowley Liner Services, Frontier Liner Services, Inc.

Synopsis: The agreement establishes a slot charter and sailing arrangement in the trade between ports on the U.S. Atlantic Coast and ports in the Dominican Republic. Expedited Review is Requested.

Agreement No.: 200616-003.

Title: Port of Miami Terminal Operating Company Marine Terminal Agreement.

Parties: P&O Ports North America, Inc., P&O Ports Florida Inc., Florida Stevedoring, Inc., Continental Stevedoring & Terminals, Inc.

Synopsis: The agreement amendment reflects the addition and deletion of members.

By Order of the Federal Maritime Commission.
Dated: June 26, 2003.
Bryant L. VanBrakle,
Secretary.

[FR Doc. 03-16630 Filed 7-1-03; 8:45 am]

BILLING CODE 6730-01-P